DEPARTMENT OF STATE

[Public Notice 6291]

Shipping Coordinating Committee; Notice of Subcommittee Meeting

The Shipping Coordinating Committee (SHC), through its Subcommittee on Standards of Training, Certification and Watchkeeping, will conduct an open meeting at 9:30 a.m. on Wednesday, August 20, 2008. The meeting will be held in Room 10-623/0718 of Jemal's Riverside Building, 1900 Half Street, SW., Washington, DC 20593. The purpose of the SHC subcommittee meeting is to prepare for the intersessional meeting of the International Maritime Organization (IMO) Subcommittee on Standards of Training and Watchkeeping (STW) that will address the comprehensive review of the International Convention on Standards of Training, Certification and Watchkeeping for Seafarers, 1978, as amended (STCW Convention), and the Seafarer's Training Certification and Watchkeeping Code (STCW Code). The STW intersessional meeting will be held at IMO Headquarters in London, England, on September 8-12, 2008.

The comprehensive review of the STCW Convention and the STCW Code is the primary item for discussion for the STW intersessional meeting. At the STW meeting, amendments to the following chapters of the Convention will be considered:

• Chapter I—General Provisions;

• Chapter II—Master and deck department;

• Chapter III—Engine department;

• Chapter IV—Radiocommunication and radio personnel;

• Chapter V—Special training requirements for personnel on certain types of ships;

• Chapter VI—Emergency, occupational safety, security, medical care and survival functions;

• Chapter VII—Alternative Certification; and

• Chapter VIII—Watchkeeping.

Please note that printed copies of documents associated with the STW intersessional meeting will not be available at this meeting. The documents will be available at the meeting in portable document format (.pdf) on CD-ROM. To request documents before the meeting please write to the address provided below, and include your name, address, phone number, and electronic mail address. Copies of the papers will be sent via electronic mail to the address provided.

Members of the public may attend the meeting up to the seating capacity of the room. Interested persons may seek information by writing: Mayte Medina, U.S. Coast Guard (CG-5221), Room 1210, 2100 Second Street, SW., Washington, DC 20593-0001 or by e-mail, Mayte.Medina2@uscg.mil.

Dated: July 11, 2008.
Mark Skolnicki,
Executive Secretary, Shipping Coordinating Committee, Department of State.

[FR Doc. E8-17347 Filed 7-28-08; 8:45 am]

BILLING CODE 4710-09-P